COMMISSION ON CIVIL RIGHTS

Sunshine Act Meetings

AGENCY: United States Commission on Civil Rights.

ACTION: Notice of Commission Business Meeting.

DATES: Friday, March 21, 2025, 9:30 a.m. EST*.

ADDRESSES: Meeting to take place in person and is open to the public.

U.S. Commission on Civil Rights, 1331 Pennsylvania Ave. NW, Suite 1150, Washington, DC 20425

The meeting will also be livestreamed on the Commission's YouTube page: https://www.youtube.com/user/USCCR/videos.

FOR FURTHER INFORMATION CONTACT: Joe Kim: 202-499-0263; publicaffairs@usccr.gov.

SUPPLEMENTARY INFORMATION: In accordance with the Government in Sunshine Act (5 U.S.C. 552b), the Commission on Civil Rights is holding a meeting to discuss the Commission's business for the month of March. This business meeting is open to the public. Computer assisted real-time transcription (CART) will be provided. The web link to access CART (in English) on Friday, March 21, 2025, is https://www.streamtext.net/player?event=USCCR. Please note that CART is text-only translation that occurs in real time during the meeting and is not an exact transcript.

Business Meeting Agenda

I. Approval of Agenda

II. Business Meeting

A. Discussion and Vote on State Advisory Committee Appointments

B. Discussion and Vote on Election Assistance Commission Advisory Board Appointments

III. Adjourn Meeting

Dated: March 13, 2025.
David Mussatt,
Supervisory Chief, Regional Programs Unit.

[FR Doc. 2025-04413 Filed 3-13-25; 4:15 pm]

BILLING CODE 6335-01-P